DEPARTMENT OF TRANSPORTATION

Pipeline and Hazardous Materials Safety Administration

49 CFR Parts 171, 173, 178, and 180

[Docket Number PHMSA-2010-0019 (HM-241)]

RIN 2137-AE58

Hazardous Materials: Adoption of ASME Code Section XII and the National Board Inspection Code

AGENCY: Pipeline and Hazardous Materials Safety Administration (PHMSA), DOT.

ACTION: Notice of proposed rulemaking; extension of comment period.

SUMMARY: PHMSA is notifying the public of our intent to extend the comment period by thirty days for a notice of proposed rulemaking published on December 30, 2013.

DATES: The comment period for the NPRM published in the Federal Register on December 30, 2013 (78 FR 79363) is extended until April 30, 2014. To the extent possible, PHMSA will consider late-filed comments.

ADDRESSES: You may submit comments identified by the docket number (PHMSA-2010-0019; HM-241) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES). To access ASME's Boiler and Pressure Vessel Code, Section XII (Section XII) go to: https://shop.asme.org/PublicReview/. To access the National Board Inspection Code (NBIC), Part 2, Supplement 6: Continued Service and Inspection of DOT Transport Tanks, and Part 3, Supplement 6: Repair, Alteration, and Modification of DOT Transport Tanks go to: https://www.nationalboard.org/SiteDocuments/NBIC/DOT_NBIC_supplements.pdf.

Privacy Act: Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78) or you may visit http://www.dot.gov/privacy.

FOR FURTHER INFORMATION CONTACT: Lisa O'Donnell, Hazardous Materials Standards and Rulemaking Division, (202) 366-8553, or Stanley Staniszewski, Engineering and Research Division, (202) 366-4492, Office of Hazardous Materials Safety, Pipeline and Hazardous Materials Safety Administration, 1200 New Jersey Avenue SE., Washington, DC 20590.

I. Background

On December 30, 2013, PHMSA (also “we” or “us”) published a notice of proposed rulemaking (78 FR 79363) seeking comments on our proposal to amend the Hazardous Materials Regulations (HMR; 49 CFR parts 171-180) in response to petitions submitted by industry representatives to incorporate Section XII and the 2013 edition of the National Board Inspection Code (NBIC) as alternatives to Section VIII, Division 1 and the current HMR requirements in part 178, for the design of cryogenic portable tanks and Cargo Tank Motor Vehicles (CTMVs), part 179 for the design of ton tanks, and part 180 for the continuing qualification and maintenance of CTMVs, cryogenic portable tanks, and ton tanks. Section XII sets forth standards for construction ¹ and continued service ² of pressure vessels for transporting hazardous materials by highway, rail, air or water with internal pressures ranging from 0 to 207 bar (full vacuum to 3,000 psig) and volumes greater than 450L (120 gallons). The 2013 edition of the NBIC provides rules and guidelines for installing, inspecting, repairing and altering boilers, pressure vessels and pressure relief devices. The NPRM published on December 30, 2013 announced a comment due date of March 31, 2014.

¹ “Construction” is an all-inclusive term comprising materials, design, fabrication, examination, inspection, testing, certification, and over-pressure protection.

² “Continued service” is an all-inclusive term referring to inspection, testing, repair, alteration, and recertification of a transport tank that has been in service.

II. Extension of Comment Period

We received a request to extend the comment period by six months from the Tank Truck Manufacturer's Association (TTMA). TTMA is requesting this extension so that they will have sufficient time to fully evaluate the cost and benefits associated with the proposals in the NPRM. TTMA asserts that based on the complexity of the proposals in the NPRM, extensive research and significant effort will be needed to adequately respond with an official comment. Furthermore, TTMA believe there is potential for substantial economic impact and the comment extension will allow for sufficient review of the proposals. The extension will also provide TTMA and its members the opportunity to compose valuable and comprehensive comments.

Due to PHMSA's desire to collect meaningful input from affected stakeholders, PHMSA is consenting to the commenter's request to extend the comment period to ensure sufficient time for public review. However, we do not believe a six month extension is warranted. Accordingly, in the interest of moving this rulemaking forward in a timely manner, PHMSA is extending the comment period by 30 days to April 30, 2014. PHMSA is confident that the 30-day extension will allow stakeholders sufficient time to conduct a more thorough review.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dot.gov/privacy.

Issued in Washington, DC, on March 11, 2014, under authority delegated in 49 CFR 1.97(b).
Magdy El-Sibaie,
Associate Administrator for Hazardous Materials Safety, Pipeline and Hazardous Materials Safety Administration.

[FR Doc. 2014-05646 Filed 3-13-14; 8:45 am]

BILLING CODE 4910-60-P